TENNESSEE VALLEY AUTHORITY

Sunshine Act

Agency Holding the Meeting: Tennessee Valley Authority (Meeting No. 09-03).

Time and Date: 10:15 a.m. (EDT), June 4, 2009, Young Harris College, Clegg Fine Arts Building, Glenn Auditorium, 1 College Street, Young Harris, Georgia 30582.

Status: Open.

Agenda

Old Business

Approval of minutes of April 2, 2009, Board Meeting.

New Business

1. Chairman's Report.

2. President's Report.

A. Potential gas-fired generation plant.

3. Report of the Finance, Strategy, Rates, and Administration Committee.

A. Modified two-part real-time pricing product.

B. Seasonal time-of-use rates and interaction with growth credits.

4. Report of the Operations, Environment, and Safety Committee.

A. Contract with Areva NP/DZ, LLC, for Nuclear Steam Supply System services and related parts.

5. Report of the Audit, Governance, and Ethics Committee.

6. Report of the Community Relations and Energy Efficiency Committee.

A. Temporary enhanced growth credit policy.

B. Grant of a 30-year term public recreation easement to Tennessee Wildlife Resources Agency affecting 8.6 acres on Fort Loudoun Reservoir.

C. Regional Resource Stewardship Council membership.

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: May 28, 2009.
Maureen H. Dunn,
General Counsel and Secretary.

[FR Doc. E9-12898 Filed 5-29-09; 4:15 pm]

BILLING CODE 8120-08-P